DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (OFAC) is publishing the names of three individuals and one entity whose property and interests in property have been blocked pursuant to the Foreign Narcotics Kingpin Designation Act (Kingpin Act) (21 U.S.C. 1901-1908, 8 U.S.C. 1182).

DATES: The identification of one entity and the designation of three individuals by the Director of OFAC identified in this notice pursuant to section 805(b) of the Kingpin Act is effective on June 1, 2015.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, that are owned or controlled of persons who have been identified by the President as significant foreign narcotics traffickers. In addition, the Act separately provides that the Secretary of the Treasury, in consultation with the Attorney General, the Director of the Central Intelligence Agency, the Director of the Federal Bureau of Investigation, the Administrator of the Drug Enforcement Administration, the Secretary of Defense, and the Secretary of State, may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking. The authority to identify, designate, and block the property and interests in property of persons under the Kingpin Act is delegated to the Director of OFAC pursuant to 31 CFR 598.803.

On June 1, 2015, the Acting Director of OFAC designated the following three individuals whose property and interests in property are blocked pursuant to sections 805(b)(2) and (3) of the Kingpin Act.

1. FLORES HALA, Florindo Eleuterio (a.k.a. “COMRADE ARTEMIO”); DOB 08 Sep 1961; POB San Juan de Siguas, Arequipa, Peru; citizen Peru (individual) [SDNTK].

2. QUISPE PALOMINO, Victor (a.k.a. “COMRADE JOSE”); DOB 01 Aug 1960; POB Ayacucho, Peru; citizen Peru (individual) [SDNTK].

3. QUISPE PALOMINO, Jorge (a.k.a. “COMRADE RAUL”); DOB 02 Nov 1958; POB Ayacucho, Peru; citizen Peru (individual) [SDNTK].

In addition, on June 1, 2015, the Acting Director of OFAC identified the following entity, which was previously designated pursuant to Executive Order 13224, as a significant foreign narcotics trafficker purusant to section 804(b) of the Kingpin Act:

4. SHINING PATH (a.k.a. COMMUNIST PARTY OF PERU; a.k.a. COMMUNIST PARTY OF PERU ON THE SHINING PATH OF JOSE CARLOS MARIATEGUI; a.k.a. EGP; a.k.a. EJERCITO GUERRILLERO POPULAR; a.k.a. EJERCITO POPULAR DE LIBERACION; a.k.a. PARTIDO COMUNISTA DEL PERU (COMMUNIST PARTY OF PERU); a.k.a. PARTIDO COMUNISTA DEL PERU EN EL SENDERO LUMINOSO DE JOSE CARLOS MARIATEGUI (COMMUNIST PARTY OF PERU ON THE SHINING PATH OF JOSE CARLOS MARIATEGUI); a.k.a. PEOPLE'S AID OF PERU; a.k.a. PEOPLE'S GUERRILLA ARMY; a.k.a. PEOPLE'S LIBERATION ARMY; a.k.a. SENDERO LUMINOSO; a.k.a. SOCORRO POPULAR DEL PERU; a.k.a. SPP; a.k.a. “EPL”; a.k.a. “PCP”; a.k.a. “SL”) [SDNTK] [FTO] [SDGT].

Dated: June 1, 2015.
John E. Smith,
Acting Director, Office of Foreign Assets Control.

[FR Doc. 2015-13910 Filed 6-5-15; 8:45 am]

BILLING CODE 4810-ALP